DEPARTMENT OF HOMELAND SECURITY

Office of the Secretary

Privacy Act of 1974; System of Records

AGENCY: Privacy Office, DHS.

ACTION: Notice of removal of a Privacy Act system of records notice.

SUMMARY: In accordance with the Privacy Act of 1974, the Department of Homeland Security is giving notice that it proposes to consolidate the following Privacy Act system of records notice, FEMA/CGC-1, August 28, 2000, into an existing Department of Homeland Security system of records notice, DHS/ALL-013 Department of Homeland Security Claims Records, October 28, 2008.

DATES: Effective Date: February 12, 2009.

FOR FURTHER INFORMATION CONTACT: Hugo Teufel III, Chief Privacy Officer, Department of Homeland Security, Washington, DC 20528, by telephone (703) 235-0780 or facsimile 703-483-2999.

SUPPLEMENTARY INFORMATION: Pursuant to the provisions of the Privacy Act of 1974, 5 U.S.C. 552a, and as part of its ongoing integration and management efforts, the Department of Homeland Security (DHS) is giving notice that it proposes to consolidate the following Privacy Act system of records notice, FEMA/CGC-1 (65 FR 52116 August 28, 2000) into an existing Department of Homeland Security system of records notice, DHS/ALL-013 Department of Homeland Security Claims Records (73 FR 63987 October 28, 2008).

DHS inherited this records system upon its creation in January of 2003. Upon review of its inventory of record systems, DHS has determined that it should be consolidated into DHS/ALL-013 Department of Homeland Security Claims Records (73 FR 63987 October 28, 2008).

DHS is consolidating FEMA/CGC-1 (65 FR 52116 August 28, 2000), Cerro Grande Fire Assistance Claim Files. This system was originally established to expeditiously consider and settle claims for injuries suffered as a result of the Cerro Grande Fire.

Consolidating this system of records notice will have no adverse impacts on individuals, but will promote the overall streamlining and management of DHS Privacy Act record systems.

Dated: January 5, 2009.
Hugo Teufel III,
Chief Privacy Officer, Department of Homeland Security.

[FR Doc. E9-379 Filed 1-12-09; 8:45 am]

BILLING CODE 4410-10-P